DEPARTMENT OF TRANSPORTATION

Federal Motor Carrier Safety Administration

[Docket ID FMCSA-2010-0082]

Qualification of Drivers; Exemption Applications; Vision

AGENCY: Federal Motor Carrier Safety Administration (FMCSA), DOT.

ACTION: Notice of applications for exemptions; request for comments.

SUMMARY: FMCSA announces receipt of applications from 22 individuals for exemption from the vision requirement in the Federal Motor Carrier Safety Regulations. If granted, the exemptions would enable these individuals to qualify as drivers of commercial motor vehicles (CMVs) in interstate commerce without meeting the Federal vision standard.

DATES: Comments must be received on or before June 9, 2010.

ADDRESSES: You may submit comments bearing the Federal Docket Management System (FDMS) Docket ID FMCSA-2010-0082 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note: that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://www.regulations.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 22 individuals listed in this notice have each requested an exemption from the vision requirement in 49 CFR 391.41(b)(10), which applies to drivers of CMVs in interstate commerce. Accordingly, the Agency will evaluate the qualifications of each applicant to determine whether granting an exemption will achieve the required level of safety mandated by statute.

Qualifications of Applicants

Clarke C. Boynton

Mr. Boynton, age 35, has had amblyopia in his left eye since childhood. The best corrected visual acuity in his right eye is 20/20 and in his left eye, 20/70. Following an examination in 2009, his ophthalmologist noted, “In my medical opinion, Mr. Clarke Boynton has sufficient vision to perform the driving tasks required to operate a commercial vehicle.” Mr. Boynton reported that he has driven straight trucks for 14 years, accumulating 350,000 miles. He holds a Class B Commercial Driver's License (CDL) from Massachusetts. His driving record for the last 3 years shows no crashes and no convictions for moving violations in a CMV.

Clare H. Buxton

Mr. Buxton, 63, has had a prosthetic left eye since 1998. The best corrected visual acuity in his right eye is 20/25. Following an examination in 2009, his optometrist noted, “Clare has monocular vision right eye only, but in my opinion, can operate a commercial motor vehicle safely.” Mr. Buxton reported that he has driven tractor-trailer combinations for 40 years, accumulating 5.2 million miles. He holds a Class A CDL from Michigan. His driving record for the last 3 years shows one crash, for which he was not cited, and no convictions for moving violations in a CMV.

Raul Charo

Mr. Charo, 50, has had open angle glaucoma in his right eye since 2006. The best corrected visual acuity in his right eye is 20/60 and in his left eye, 20/20. Following an examination in 2009, his ophthalmologist noted, “In my professional opinion, Mr. Charo has sufficient vision to perform the driving tasks required to operate a commercial vehicle.” Mr. Charo reported that he has driven straight trucks for 22 years, accumulating 33,000 miles. He holds a Class A CDL from Illinois. His driving record for the last 3 years shows no crashes and no convictions for moving violations in a CMV.

Lester M. Ellingson, Jr.

Mr. Ellingson, 66, has had choroidal melanoma in his left eye since 2000. The best corrected visual acuity in his right eye is 20/20 and in his left eye, 20/400. Following an examination in 2009, his optometrist noted, “In my opinion, Lester has sufficient vision to operate a commercial vehicle.” Mr. Ellingson reported that he has driven straight trucks for 47 years, accumulating 235,000 miles, tractor-trailer combinations for 40 years, accumulating 960,000 miles and buses for 40 years, accumulating 20,000 miles. He holds a Class A CDL from North Dakota. His driving record for the last 3 years shows one crash and one conviction. His driving record for the last 3 years shows no crashes and one conviction for a moving violation, speeding in a CMV. He exceeded the speed limit by 10 mph.

Miguel H. Espinoza

Mr. Espinoza, 34, has had amblyopia in his left eye since 1989. The best corrected visual acuity in his right eye is 20/20 and in his left eye, 20/150. Following an examination in 2009, his optometrist noted, “He has more than sufficient vision to perform his driving tasks required to operate a commercial vehicle.” Mr. Espinoza reported that he has driven straight trucks for 10 years, accumulating 140,000 miles. He holds a Class C operator's license from California. His driving record for the last 3 years shows no crashes and no convictions for moving violations in a CMV.

Billy R. Gibbs

Mr. Gibbs, 52, has had amblyopia in his right eye since childhood. The best corrected visual acuity in his right eye is 20/60 and in his left eye, 20/20. Following an examination in 2010, his ophthalmologist noted, “In my medical opinion, Mr. Gibbs has sufficient vision to perform the driving tasks required to operate a commercial vehicle.” Mr. Gibbs reported that he has driven straight trucks for 5 years, accumulating 60,000 miles and tractor-trailer combinations for 20 years, accumulating 700,000. He holds a Class A CDL from Maryland. His driving record for the last 3 years shows no crashes and no convictions for moving violations in a CMV.

Clyde J. Harms

Mr. Harms, 59, has had amblyopia in his right eye since childhood. The best corrected visual acuity in his right eye is 20/80 and in his left eye, 20/20. Following an examination in 2009, his optometrist noted, “It is my professional opinion that he is very capable of performing the driving tasks required to operate a commercial vehicle.” Mr. Harms reported that he has driven straight trucks for 33 years, accumulating 148,500 miles. He holds a Class B CDL from Illinois. His driving record for the last 3 years shows no crashes and no convictions for moving violations in a CMV.

Ricky P. Hastings

Mr. Hastings, 55, has had a prosthetic left eye since 1991. The best corrected visual acuity in his right eye is 20/20. Following an examination in 2009, his ophthalmologist noted, “Based on my examination findings, I determine that Mr. Hastings has sufficient vision, in this right eye, to perform the driving tasks required to operate a commercial vehicle.” Mr. Hastings reported that he has driven straight trucks for 5 years, accumulating 250,000 miles and tractor-trailer combinations for 10 years, accumulating 650,000 miles. He holds a Class A CDL from Texas. His driving record for the last 3 years shows no crashes and no convictions for moving violations in a CMV.

Wesley V. Holland

Mr. Holland, 48, has had amblyopia in his left eye since childhood. The best corrected visual acuity in his right eye is 20/15 and in his left eye, 20/400. Following an examination in 2010, his optometrist noted, “In my medical opinion, Mr. Holland has sufficient vision to perform the driving tasks required to operate a commercial vehicle.” Mr. Holland reported that he has driven straight trucks for 16 years, accumulating 736,000 miles. He holds a Class A CDL from North Carolina. His driving record for the last 3 years shows no crashes and no convictions for moving violations in a CMV.

William D. Holt

Mr. Holt, 48, has had complete loss of vision in his right eye since childhood. The best corrected visual acuity in his left eye is 20/20. Following an examination in 2009 his optometrist noted, “I certify that Mr. Holt does have sufficient vision to drive a commercial vehicle based on guidelines presented to me prior to the examination.” Mr. Holt reported that he has driven straight trucks for 30 years, accumulating 630,000 miles and tractor-trailer combinations for 30 years, accumulating 630,000 miles. He holds a Class A CDL from Arizona. His driving record for the last 3 years shows no crashes and no convictions for moving violations in a CMV.

Azizi A. Jamal

Mr. Jamal, 48, has had amblyopia and glaucoma in his left eye since childhood. The best corrected visual acuity in his right eye is 20/20 and in his left eye, hand-motion vision. Following an examination in 2010 his ophthalmologist noted, “I do feel, in my medical opinion, that he has sufficient vision to perform driving tasks required to operate a commercial vehicle.” Mr. Jamal reported that he has driven straight trucks for 3 years, accumulating 91,800 miles. He holds a Class D operator's license from New Jersey. His driving record for the last 3 years shows no crashes and no convictions for moving violations in a CMV.

William L. Martin

Mr. Martin, 33, has extensive corioretinal scarring in his right eye due to a traumatic injury sustained at age 16. The best corrected visual acuity in his right eye is 20/400 and in his left eye, 20/20. Following an examination in 2009, his ophthalmologist noted, “In my medical opinion William Martin has sufficient vision to perform the driving tasks required to operate a commercial vehicle.” Mr. Martin reported that he has driven straight trucks for 12 years, accumulating 270,000 miles and tractor-trailer combinations for 12 years, accumulating 270,000 miles. He holds a Class A CDL from Oregon. His driving record for the last 3 years shows no crashes and no convictions for moving violations in a CMV.

Gary G. McKown

Mr. McKown, 60, has had a prosthetic right eye since 1961. The best corrected visual acuity in his left eye is 20/20. Following an examination in 2010, his optometrist noted, “In my opinion, Mr. McKown has sufficient vision to perform the driving tasks required to operate a commercial vehicle.” Mr. McKown reported that he has driven straight trucks for 2 years, accumulating 10,000 miles and tractor-trailer combinations for 39 years, accumulating 1.9 million miles. He holds a Class A CDL from West Virginia. His driving record for the last 3 years shows no crashes and one conviction for speeding in a CMV. He exceeded the speed limit by 5 mph.

Larry D. Moss

Mr. Moss, 55, has had complete loss of vision in his right eye since 1962 due to a traumatic injury. The best corrected visual acuity in his left eye is 20/15. Following an examination in 2009 his optometrist noted, “It is my medical opinion that Mr. Larry Moss has sufficient vision to perform the driving tasks required to operate a commercial vehicle.” Mr. Moss reported that he has driven straight trucks for 8 years, accumulating 768,000 miles. He holds a Class C operator's license from California. His driving record for the last 3 years shows no crashes and no convictions for moving violations in a CMV.

Leland B. Moss

Mr. Moss, 47, has had amblyopia in his right eye since childhood. The best corrected visual acuity in his right eye is 20/200 and in his left eye, 20/20. Following an examination in 2009 his optometrist noted, “I believe his vision is sufficient to perform the driving tasks required to operate a commercial vehicle.” Mr. Moss reported that he has driven straight trucks for 10 years, accumulating 200,000 miles. He holds a Class D operator's license from Vermont. His driving record for the last 3 years shows no crashes and no convictions for moving violations in a CMV.

Michael J. Rankin

Mr. Rankin, 54, has had loss of vision in his right eye since 1989 due to presumed ocular histoplasmosis. The best corrected visual acuity in his right eye is 20/300 and in his left eye, 20/20. Following an examination in 2009, his optometrist noted, “It is my opinion that he has sufficient vision to safely operate a commercial vehicle across interstate borders.” Mr. Rankin reported that he has driven straight trucks for 4 years, accumulating 60,000 miles, and tractor-trailer combinations for 3 years, accumulating 37,500 miles. He holds a Class A CDL from Ohio. His driving record for the last 3 years shows no crashes and no convictions for moving violations in a CMV.

Jacob H. Riggle

Mr. Riggle, 48, has had macular scarring in his right eye since 1999. The best corrected visual acuity in his right eye is 20/400 and in his left eye, 20/20. Following an examination in 2009, his optometrist noted, “In my opinion, Mr. Riggle shows to have sufficient vision to perform the driving tasks required for a commercial driver license.” Mr. Riggle reported that he has driven straight trucks for 28 years, accumulating 2.3 million miles, and tractor-trailer combinations for 28 years, accumulating 2.5 million miles. He holds a Class A CDL from Oklahoma. His driving record for the last 3 years shows no crashes and no convictions for moving violations in a CMV.

Terry L. Rubendall

Mr. Rubendall, 54, has had complete loss of vision in his left eye since childhood due to a congenital left orbital tumor. The best corrected visual acuity in his right eye is 20/15. Following an examination in 2009, his optometrist noted, “It is my professional opinion that Terry has sufficient vision to perform the driving tasks required to operate a commercial vehicle.” Mr. Rubendall reported that he has driven straight trucks for 29 years, accumulating 1.4 million miles, tractor-trailer combinations for 15 years, accumulating 75,000 miles, and buses for 5 years, accumulating 5,000 miles. He holds a Class A CDL from Pennsylvania. His driving record for the last 3 years shows no crashes and no convictions for moving violations in a CMV.

Michael L. Skeens

Mr. Skeens, 39, has had a prosthetic left eye since childhood. The best corrected visual acuity in his right eye is 20/20. Following an examination in 2010, his ophthalmologist noted, “I, Dr. Jeffrey Bunning, certify in my medical opinion that Mr. Skeens has sufficient vision to perform all driving tasks required to operate a commercial vehicle.” Mr. Skeens reported that he has driven straight trucks for 13 years, accumulating 416,000 miles, and tractor-trailer combinations for 3½; years, accumulating 35,000 miles. He holds a Class A CDL from Virginia. His driving record for the last 3 years shows no crashes and no convictions for moving violations in a CMV.

Lee F. Taylor

Mr. Taylor, 54, has had amblyopia in his left eye since birth. The best corrected visual acuity in his right eye is 20/20 and in his left eye, 20/70. Following an examination in 2009, his ophthalmologist noted, “In my medical opinion, Lee Taylor has sufficient vision to perform the required tasks to operate a commercial vehicle.” Mr. Taylor reported that he has driven straight trucks for 19 years, accumulating 855,000 miles, and tractor-trailer combinations for 19 years, accumulating 1 million miles. He holds a Class A CDL from New Jersey. His driving record for the last 3 years shows no crashes and one conviction for a moving violation in a CMV. He failed to obey a traffic control device.

Aaron E. Wright

Mr. Wright, 42, has had amblyopia and optic nerve damage in his right eye since 1994. The best corrected visual acuity in his right eye is 20/400 and in his left eye, 20/20. Following an examination in 2010, his optometrist noted, “Mr. Wright has sufficient vision to perform the driving tasks required to operate a commercial vehicle.” Mr. Wright reported that he has driven straight trucks for 2 years, accumulating 16,000 miles, and tractor-trailer combinations for 3 years, accumulating 315,000 miles. He holds a Class A CDL from Michigan. His driving record for the last 3 years shows no crashes and no convictions for moving violations in a CMV.

Michael A. Zingarella, Sr.

Mr. Zingarella, 39, has had amblyopia and strabismus in his left eye since childhood. The best corrected visual acuity in his right eye is 20/20 and in his left eye, count-finger vision. Following an examination in 2010, his optometrist noted, “It is my medical opinion that Mr. Zingarella has more than sufficient vision to perform the tasks required to operate a commercial vehicle.” Mr. Zingarella reported that he has driven straight trucks for 13 years, accumulating 650,000 miles. He holds a Class D operator's license from Connecticut. His driving record for the last 3 years shows no crashes and one conviction for a moving violation in a CMV. He failed to use the proper signal while changing lanes.

Request for Comments

In accordance with 49 U.S.C. 31136(e) and 31315, FMCSA requests public comment from all interested persons on the exemption petitions described in this notice. The Agency will consider all comments received before the close of business June 9, 2010. Comments will be available for examination in the docket at the location listed under the ADDRESSES section of this notice. The Agency will file comments received after the comment closing date in the public docket, and will consider them to the extent practicable.

In addition to late comments, FMCSA will also continue to file, in the public docket, relevant information that becomes available after the comment closing date. Interested persons should monitor the public docket for new material.

Issued on: April 23, 2010.
Larry W. Minor,
Associate Administrator for Policy and Program Development.

[FR Doc. 2010-10941 Filed 5-7-10; 8:45 am]

BILLING CODE 4910-EX-P